DEPARTMENT OF TRANSPORTATION

Federal Railroad Administration

Environmental Impact Statement for the Northeast Corridor Between Washington, DC, New York, NY, and Boston, MA

AGENCY: Federal Railroad Administration (FRA), U.S. Department of Transportation (DOT).

ACTION: Notice of intent to extend the formal comment period for scoping to October 19, 2012.

SUMMARY: FRA is issuing this Notice of Intent (Notice) to advise the public and Federal, state, and local agencies of the extension of the formal comment period for the NEC FUTURE program scoping process. The Notice of Intent to prepare a Tier 1 Environmental Impact Statement (EIS) to evaluate potential passenger rail improvements between Washington, DC, New York City, and Boston, MA was published in the Federal Register on June 22, 2012. The formal comment period for scoping was scheduled to close on Friday, September 14, 2012. In response to requests from the public provided in public testimony at Scoping meetings held from August 13th through August 22nd at nine different venues between Washington, DC and Boston, Massachusetts, FRA has decided to extend the formal comment period until Friday, October 19, 2012.

DATES: Comment period extended from Friday, September 14, 2012 to Friday, October 19, 2012.

ADDRESSES: Interested parties are encouraged to comment on-line at the NEC FUTURE Web site (www.necfuture.com), via email at info@necfuture.com, or by mail at the address below. For Further Information or Special Assistance Contact: Rebecca Reyes-Alicea, USDOT, Federal Railroad Administration, Office of Railroad Policy & Development, Mail Stop 20, 1200 New Jersey Avenue SE., Washington, DC 20590; by email at info@necfuture.com; or through the NEC FUTURE Web site (www.necfuture.com).

SUPPLEMENTARY INFORMATION: FRA is leading the planning and environmental evaluation of the Northeast Corridor (NEC) in close coordination with the involved states, Northeast Corridor Infrastructure and Operations Advisory Commission (NEC Commission), Amtrak, and other stakeholders. The purpose of the NEC FUTURE program is to define current and future markets for improved rail service and capacity on the NEC, develop an integrated passenger rail transportation solution to incrementally meet those needs, and create a regional planning framework to engage stakeholders throughout the region in the development of the program.

The materials that were presented at the Scoping meetings held from August 13th to August 22nd, including a narrated PowerPoint presentation and display boards, will be available on the NEC FUTURE Web site (www.necfuture.com). To ensure that all significant issues are identified and considered, all interested parties are invited to comment on the proposed scope of environmental review, project purpose and need, alternatives to be considered, environmental effects to be considered and evaluated, and methodologies to be used for evaluating effects. Persons with limited internet access may request a hard copy of the Public Scoping meeting materials by contacting Rebecca Reyes-Alicea at the mailing address above. Please direct comments or questions concerning the proposed action and the Tier 1 EIS to the FRA at the above address.

Issued in Washington, DC, on August 31, 2012.
Paul Nissenbaum,
Associate Administrator of Rail Policy and Development, Federal Railroad Administration.

[FR Doc. 2012-22060 Filed 9-6-12; 8:45 am]

BILLING CODE 4910-06-P